DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 25, 2005.

Interested persons are invited to submit written comments regarding the subject matter of the investigations to the Director, Division of Trade Adjustment Assistance, at the address shown below, not later than March 25, 2005.

The petitions filed in this case are available for inspection at the Office of the Director, Division of Trade Adjustment Assistance, Employment and Training Administration, U.S. Department of Labor, Room C-5311, 200 Constitution Avenue, NW., Washington, DC 20210.

Signed at Washington, DC this 4th day of March 2005.
Timothy Sullivan,
Director, Division of Trade Adjustment Assistance.

Appendix

Petitions Instituted Between 02/02/2005 and 02/11/2005
TA-W | Subject firm (petitioners) | Location | Date of institution | Date of petition
56,461 | Teradyne, Inc. (Comp) | Nashua, NH | 02/02/2005 | 01/31/2005
56,462 | Nakanishi Manufacturing Corp. (Comp) | Winterville, GA | 02/02/2005 | 01/31/2005
56,463 | Santa's Best (Comp) | Lubbock, TX | 02/02/2005 | 01/21/2005
56,464 | Imerys Pigments and Additives (State) | Dry Branch, GA | 02/02/2005 | 01/31/2005
56,465 | INMED Corporation (Wkrs) | Duluth, GA | 02/02/2005 | 01/26/2005
56,466 | Information Resources, Inc. (NPW) | Chicago, IL | 02/02/2005 | 02/01/2005
56,467 | Kimberly-Clark Corp. (State) | Conway, AR | 02/02/2005 | 01/20/2005
56,468 | Alexander Technologies USA, Inc. (Comp) | Mason City, IA | 02/02/2005 | 02/01/2005
56,469 | Blackstone Manufacturing (Wkrs) | Blackstone, VA | 02/02/2005 | 02/01/2005
56,470 | Unique Garment Manufacturing, Inc. (State) | Daly City, CA | 02/02/2005 | 01/20/2005
56,471 | Noffsinger Manufacturing Co., Inc. (Comp) | Hermiston, OR | 02/02/2005 | 02/01/2005
56,472 | Armstrong World Industries (USWA) | Oneida, TN | 02/02/2005 | 02/01/2005
56,473 | Glenoit LLC/Excell Home Fashions, Inc. (Comp) | New York, NY | 02/02/2005 | 01/12/2005
56,474 | Rexam Beverage Can Americas (Wkrs) | San Leandro, CA | 02/02/2005 | 02/01/2005
56,475 | Neocare (Comp) | San Antonio, TX | 02/02/2005 | 01/31/2005
56,476 | Miss Elaine, Inc. (UNITE) | Ste. Genevieve, MO | 02/02/2005 | 01/28/2005
56,477 | Gardner Shoe Company (Wkrs) | West Plains, MO | 02/02/2005 | 01/17/2005
56,478 | Peerless Premier Appliance (IBB) | Belleville, IL | 02/02/2005 | 02/01/2005
56,479 | Solo Cup Company (Wkrs) | Green Bay, WI | 02/02/2005 | 02/01/2005
56,480 | Tyco Electronics (State) | Dallas, OR | 02/02/2005 | 02/01/2005
56,481 | Morton Metalcraft Co. of SC (Comp) | Honea Path, SC | 02/02/2005 | 01/24/2005
56,482 | Sidel (State) | Bradenton, FL | 02/02/2005 | 02/01/2005
56,483 | Knowles Electronics (Wkrs) | Elgin, IL | 02/03/2005 | 01/27/2005
56,484 | Renees Manufacturing, Inc. (Wkrs) | San Francisco, CA | 02/03/2005 | 02/02/2005
56,485 | Anchor Hocking Company (USWA) | Monaca, PA | 02/03/2005 | 01/31/2005
56,486 | Lucent Technology (State) | Phoenix, AZ | 02/03/2005 | 01/24/2005
56,487 | Fraser Papers (Wkrs) | Park Falls, WI | 02/03/2005 | 01/24/2005
56,488 | Reed Manufacturing Co., Inc. (Comp) | Tupelo, MS | 02/03/2005 | 01/21/2005
56,489 | Printing Developments, Inc. (Comp) | Racine, WI | 02/03/2005 | 02/03/2005
56,490 | Shell Oil (State) | Bakersfield, CA | 02/03/2005 | 01/20/2005
56,491 | Newcor Bay City (UAW) | Bay City, MI | 02/03/2005 | 01/28/2005
56,492 | Stabilus (Wkrs) | Gastonia, NC | 02/03/2005 | 01/31/2005
56,493 | Koepplingers Baker, Inc (BCTGM) | Oak Park, MI | 02/03/2005 | 02/02/2005
56,494 | Kimberly Clark (State) | Draper, UT | 02/04/2005 | 02/03/2005
56,495 | Aurafin Oroamerica, LLC (Wkrs) | Providence, RI | 02/04/2005 | 01/05/2005
56,496 | KBA North America (USWA) | York, PA | 02/04/2005 | 02/04/2005
56,497 | Johnson Controls, Inc. (Comp) | Anderson, SC | 02/04/2005 | 02/01/2005
56,498 | Marsh Advantgage America (Wkrs) | Spartanburg, SC | 02/04/2005 | 01/10/2005
56,499 | Wallace Packaging (Wkrs) | Bay Shore, NY | 02/04/2005 | 02/04/2005
56,500 | Burlington Rug Corp. (State) | Monticello, AR | 02/04/2005 | 02/04/2005
56,501 | Decra Mold (Wkrs) | Oklahoma City, OK | 02/04/2005 | 01/31/2005
56,502 | Gertrude Davenport, Inc. (Comp) | Americus, GA | 02/04/2005 | 02/04/2005
56,503 | Anthra Textile Company (Wkrs) | Shamokin, PA | 02/04/2005 | 01/06/2005
56,504 | England Furniture (Wkrs) | Booneville, MS | 02/04/2005 | 01/31/2005
56,505 | FB Johnston Group (Wkrs) | Hillsborough, NC | 02/04/2005 | 02/01/2005
56,506 | Futuresmart (Wkrs) | Draper, UT | 02/04/2005 | 01/13/2005
56,507 | Augusta Sportswear (State) | Grovetown, GA | 02/04/2005 | 02/03/2005
56,508 | Cannon County Knitting Mills (Wkrs) | Smithville, TN | 02/04/2005 | 02/02/2005
56,509 | Barrow Manufacturing Co. (Comp) | Winder, GA | 02/04/2005 | 02/03/2005
56,510 | Shafer Electronics (State) | Shafer, MN | 02/04/2005 | 02/03/2005
56,511 | Quantegy (Wkrs) | Opelia, AL | 02/04/2005 | 01/11/2005
56,512 | Pride Manufacturing Co., LLC (Comp) | Tampa, FL | 02/07/2005 | 01/19/2005
56,513 | Cannon Equipment (Comp) | Passaic, NJ | 02/07/2005 | 02/07/2005
56,514 | IKKA Technology, Inc. (Comp) | Villa Rica, GA | 02/07/2005 | 01/25/2005
56,515 | Interstate Iron Works (State) | Whitehouse, NJ | 02/07/2005 | 02/04/2005
56,516 | Weil-McLain (Wkrs) | Michigan City, IN | 02/07/2005 | 02/04/2005
56,517 | Shirley's SewVac (State) | Hermiston, OR | 02/07/2005 | 02/04/2005
56,518 | Standard Textiles (Wkrs) | Thomaston, GA | 02/07/2005 | 01/10/2005
56,519 | Weyerhaeuser Company (State) | Lebanon, OR | 02/07/2005 | 02/03/2005
56,520 | Orgo-Thermitt (State) | Manchester, NJ | 02/07/2005 | 02/07/2005
56,521 | Lear Corporation (Comp) | Grand Rapids, MI | 02/07/2005 | 02/07/2005
56,522 | Clayton-Marcus Company, Inc. (State) | Hickory, NC | 02/07/2005 | 02/07/2005
56,523 | Hunter Technologies, Inc. (Comp) | Montross, VA | 02/07/2005 | 02/01/2005
56,524 | Jamaica Buick, LLC (NPW) | Jamaica, NY | 02/07/2005 | 02/07/2005
56,525 | Tyco Healthcare (Comp) | Waco, TX | 02/07/2005 | 02/04/2005
56,526 | M and F Western Product, Inc. (Wkrs) | Nocona, TX | 02/07/2005 | 01/10/2005
56,527 | SET Enterprises (Comp) | Warren, MI | 02/08/2005 | 02/07/2005
56,528 | Hussman Corporation (USWA) | Bridgeton, MO | 02/08/2005 | 02/07/2005
56,529 | CTS Corporation (Wkrs) | Berne, IN | 02/08/2005 | 02/07/2005
56,530 | United Engine and Machine Co., Inc. (Comp) | Carson City, NV | 02/08/2005 | 02/03/2005
56,531 | Facility Management Engineering (State) | St. George, UT | 02/08/2005 | 02/08/2005
56,532 | Stant Manufacturing, Inc., (UAW) | Conerville, IN | 02/08/2005 | 02/01/2005
56,533 | Owens and Hurst Lumber Co. (Comp) | Eureka, MT | 02/08/2005 | 02/07/2005
56,534 | Anchor Glass Container (USWA) | Zanesville, OH | 02/08/2005 | 02/07/2005
56,535 | Kanthal Corporation (Comp) | Niagara Falls, NY | 02/08/2005 | 01/25/2005
56,536A | Butler Manufacturing Company (Wkrs) | Galesburg, IL | 02/08/2005 | 02/07/2005
56,536B | Butler Manufacturing Company (Wkrs) | Galesburg, IL | 02/08/2005 | 02/07/2005
56,536 | Butler Manufacturing Company (Wkrs) | Galesburg, IL | 02/08/2005 | 02/07/2005
56,537 | Polar Fabe (State) | Bloomington, MN | 02/08/2005 | 02/07/2005
56,538 | Prudential Overall Supply (Wkrs) | Cerritos, CA | 02/09/2005 | 01/28/2005
56,539 | SCA Tissue North America LLC (Comp) | Neenah, WI | 02/09/2005 | 02/03/2005
56,540 | C & H Machine Co., Inc. (Wkrs) | Kinzer, PA | 02/09/2005 | 01/28/2005
56,541 | Osram Sylvania, Inc. (IUE) | St Marys, PA | 02/09/2005 | 02/09/2005
56,542 | Temple Industries (State) | Hot Springs, AR | 02/09/2005 | 01/28/2005
56,543 | Evans Rule Co., Inc. (Comp) | Charleston, SC | 02/10/2005 | 02/07/2005
56,544 | Furst Staffing Temp. (Wkrs) | Rockford, IL | 02/10/2005 | 01/11/2005
56,545 | Avail Staff and Chase Staffing (State) | Gainesville, GA | 02/10/2005 | 02/05/2005
56,546 | WestPoint Stevens (Comp) | Wagram, NC | 02/11/2005 | 02/09/2005
56,547 | Seton Company (Wkrs) | Saxton, PA | 02/11/2005 | 02/03/2005
56,548 | Reed City Tool and Die (Comp) | Reed City, MI | 02/11/2005 | 02/09/2005
56,549 | Finisar Corp. (Comp) | Sunnyvale, CA | 02/11/2005 | 01/26/2005
56,550 | Cyprus Semiconductor (State) | Bloomington, MN | 02/11/2005 | 02/08/2005
56,551 | National Oil Well (State) | St. Paul, MN | 02/11/2005 | 02/08/2005
56,552 | Northern Pure Ice, LLC (State) | Grayling, MI | 02/11/2005 | 02/01/2005
56,553 | SJP Corp. (Comp) | New London, WI | 02/11/2005 | 02/02/2005
56,554 | Boling Furniture Co. (Comp) | Mount Olive, NC | 02/11/2005 | 02/10/2005
56,555 | American Flange and Mfg. Co., Inc. (Wkrs) | Carol Stream, IL | 02/11/2005 | 01/28/2005
56,556 | Pitt Services, Ltd. (Comp) | Kinston, NC | 02/11/2005 | 02/08/2005
56,557 | Phoenix Millwork (State) | Beaumont, TX | 02/11/2005 | 02/08/2005
56,558 | Ben Mar Hosiery (Comp) | Ft. Payne, AL | 02/11/2005 | 02/08/2005
56,559 | Flexible Technologies (Wkrs) | Honea Path, SC | 02/11/2005 | 02/08/2005
56,560 | Interstate Tool and Die Company (Wkrs) | Madison Heights, MI | 02/11/2005 | 02/02/2005
56,561 | Citi Group Credit Services (Wkrs) | Middleburg Hgts, OH | 02/11/2005 | 01/30/2005
56,562 | Plastic Source, Inc. (Wkrs) | El Paso, TX | 02/11/2005 | 01/28/2005
56,563 | Brocade Communications (State) | San Jose, CA | 02/11/2005 | 01/27/2005
56,564 | Lab-Line instruments, Inc. (Comp) | Melrose Park, IL | 02/11/2005 | 02/03/2005
56,565 | Kraft Foods Global (Wkrs) | New Berline, NY | 02/11/2005 | 01/27/2005

[FR Doc. E5-1113 Filed 3-14-05; 8:45 am]

BILLING CODE 4510-30-P